DEPARTMENT OF COMMERCE

Bureau of Industry and Security

Action Affecting Export Privileges; ERIC COHEN

10-BIS-0005

Eric Cohen, 1631 East 10th Street, Brooklyn, NY 11223, Respondent.

Order Relating to Eric Cohen

The Bureau of Industry and Security, U.S. Department of Commerce (“BIS”), has initiated an administrative proceeding against Eric Cohen (“Cohen”) pursuant to Section 766.3 of the Export Administration Regulations (the “Regulations”) ¹ and Section 13(c) of the Export Administration Act of 1979, as amended (the “Act”),² through the issuance of a Charging Letter to Cohen that alleges, as amended, that Cohen committed two violations of the Regulations. Specifically, these charges are:

¹ The Regulations are currently codified in the Code of Federal Regulations at 15 CFR parts 730-774 (2011). The charged violations occurred in 2005. The Regulations governing the violations at issue are found in the 2005 version of the Code of Federal Regulations (15 CFR parts 730-774 (2005)). The 2011 Regulations set forth the procedures that apply to this matter.

² 50 U.S.C. app. §§ 2401-2420 (2000). Since August 21, 2001, the Act has been in lapse and the President, through Executive Order 13,222 of August 17, 2001 (3 CFR, 2001 Comp. 783 (2002)), as extended most recently by the Notice of August 17, 2010 (75 FR 50,681 (Aug. 16, 2010)), has continued the Regulations in effect under the International Emergency Economic Powers Act (50 U.S.C. 1701, et seq.).

Charge 1 15 CFR 764.2(h)—Evasion

Between on or about May 1, 2005, and continuing through and including on or about June 6, 2005, Cohen engaged in a transaction or took actions with the intent to evade the Regulations in connection with the export of thermal imaging cameras, items subject to the Regulations, classified under Export Control Classification Number (“ECCN”) 6A003.b.4, and controlled for reasons of Regional Stability, from the United States to Komeco Co., Ltd., in South Korea, without the required Department of Commerce license. At all pertinent times, Cohen was employed as an employee and/or manager of SZY Holdings LLC, of Brooklyn, New York, also known as (“a/k/a”) Ever Dixie USA EMS Supply Company, a/k/a Ever Dixie EMS, a/k/a Everready First Aid & Medical Supplies, and a/k/a Everready First Aid and Medical Supply Corp (“Ever Dixie”). In negotiating and/or arranging Ever Dix[i]e's acquisition of these controlled items from a U.S. company, Cohen was questioned about the ultimate destination of the items and concealed the intended export and destination of the items by falsely informing the U.S. company that it was selling the items domestically to fire departments in New York State and providing names and addresses for two fire departments in New York State, when, in fact, the items were intended for export to South Korea. Cohen facilitated Ever Dixie's sale of the items, valued at approximately $99,000, to the South Korean company and then arranged for a freight forwarder to ship the items from the United States to South Korea, without the export license required by Section 742.6 of the Regulations. In so doing, Cohen committed one violation of Section 764.2(h) of the Regulations.

Charge 3 15 CFR 764.2(b)—Causing, Aiding or Abetting a Violation

Between on or about May 1, 2005 through and including on or about June 6, 2005, Cohen engaged in conduct prohibited by the Regulations by causing, aiding and/or abetting the export of thermal imaging cameras, items subject to the Regulations, classified under ECCN 6A003.b.4 and controlled for reasons of Regional Stability, and valued at approximately $99,000, from the United States to Komeco Co., Ltd., in South Korea, without the Department of Commerce license required by Section 742.6 of the Regulations. Cohen, at all pertinent times, was employed as an employee and/or manager of SZY Holdings LLC, of Brooklyn, New York, also known as (“a/k/a”) Ever Dixie USA EMS Supply Company, a/k/a Ever Dixie EMS, a/k/a Everready First Aid & Medical Supplies, and a/k/a Everready First Aid and Medical Supply Corp (“Ever Dixie”). Cohen negotiated and/or arranged Ever Dix[i]e's acquisition of these controlled items from a U.S. company by giving the U.S. company false information regarding the ultimate destination and purchasers or end users of the items. In so doing, Cohen committed one violation of Section 764.2(b) of the Regulations.³

³ On May 5, 2011, BIS unilaterally withdrew Charge 2 (Conspiracy).

Whereas, BIS and Cohen have entered into a Settlement Agreement pursuant to Section 766.18(b) of the Regulations, whereby they agreed to settle this matter in accordance with the terms and conditions set forth therein; and

Whereas, I have approved of the terms of such Settlement Agreement;

It is therefore ordered:

First, that a civil penalty of $15,000 is assessed against Cohen. Cohen shall pay $5,000 to the U.S. Department of Commerce not later than August 15, 2011. Thereafter, Cohen shall pay $5,000 to the U.S. Department of Commerce not later than October 15, 2011; and $5,000 not later than December 15, 2011. Payment shall be made in the manner specified in the attached instructions.

Second, that, pursuant to the Debt Collection Act of 1982, as amended (31 U.S.C. 3701-3720E (2000)), the civil penalty owed under this Order accrues interest as more fully described in the attached Notice, and, if payment is not made by the due dates specified herein, Cohen will be assessed, in addition to the full amount of the civil penalty and interest, a penalty charge and an administrative charge, as more fully described in the attached Notice.

Third, that the full and timely payment of the civil penalty in accordance with the payment schedule set forth above is hereby made a condition to the granting, restoration, or continuing validity of any export license, license exception, permission, or privilege granted, or to be granted, to Cohen.

Fourth, Cohen agrees not to take any action or to make or permit to be made any public statement denying, directly or indirectly, any allegations in the Charging Letter, this Settlement Agreement or the Order. Nothing in this paragraph affects Cohen's testimonial obligations, or right to take legal or factual positions in litigation or other legal proceedings in which the U.S. Department of Commerce is not a party.

Fifth, for a period of five years from the date of this Order, Eric Cohen, 1631 East 10th Street, Brooklyn, NY 11223, and when acting on his behalf, his assigns, representatives, or agents (hereinafter collectively referred to as “Denied Person”) may not participate, directly or indirectly, in any way in any transaction involving any commodity, software or technology (hereinafter collectively referred to as “item”) exported or to be exported from the United States that is subject to the Regulations and listed on the Commerce Control List, set forth in Supplement No. 1 to 15 CFR part 774, or in any other activity subject to the Regulations involving an item listed on the Commerce Control List, including, but not limited to:

A. Applying for, obtaining, or using any license, License Exception, or export control document that involves and item that is subject to the Regulations and listed on the Commerce Control List;

B. Carrying on negotiations concerning, or ordering, buying, receiving, using, selling, delivering, storing, disposing of, forwarding, transporting, financing, or otherwise servicing in any way, any transaction involving any item exported or to be exported from the United States that is subject to the Regulations and listed on the Commerce Control List, or in any other activity subject to the Regulations that involves an item listed on the Commerce Control List; or

C. Benefitting in any way from any transaction involving any item exported or to be exported from the United States that is subject to the Regulations and listed on the Commerce Control List, or in any other activity subject to the Regulations that involves an item listed on the Commerce Control List.

Sixth, that no person may, directly or indirectly, do any of the following:

A. Export or reexport to or on behalf of the Denied Person any item subject to the Regulations and listed on the Commerce Control List;

B. Take any action that facilitates the acquisition or attempted acquisition by the Denied Person of the ownership, possession, or control of any item subject to the Regulations and listed on the Commerce Control List that has been or will be exported from the United States, including financing or other support activities related to a transaction whereby the Denied Person acquires or attempts to acquire such ownership, possession or control;

C. Take any action to acquire from or to facilitate the acquisition or attempted acquisition from the Denied Person of any item subject to the Regulations and listed on the Commerce Control List that has been exported from the United States;

D. Obtain from the Denied Person in the United States any item subject to the Regulations and listed on the Commerce Control List with knowledge or reason to know that the item will be, or is intended to be, exported from the United States; or

E. Engage in any transaction to service any item subject to the Regulations and listed on the Commerce Control List that has been or will be exported from the United States and which is owned, possessed or controlled by the Denied Person, or service any item, of whatever origin, that is owned, possessed or controlled by the Denied Person if such service involves the use of any item subject to the Regulations and listed on the Commerce Control List that has been or will be exported from the United States. For purposes of this paragraph, servicing means installation, maintenance, repair, modification or testing.

Seventh, that, after notice and opportunity for comment as provided in Section 766.23 of the Regulations, any person, firm, corporation, or business organization related to Cohen by affiliation, ownership, control, or position of responsibility in the conduct of trade or related services may also be made subject to the provisions of the Order.

Eighth, that the Charging Letter, the Settlement Agreement, and this Order shall be made available to the public.

Ninth, that this Order shall be served on Cohen and on BIS, and shall be published in the Federal Register.

This Order, which constitutes the final agency action in this matter, is effective immediately.

Issued this 30th day of June 2011.
David W. Mills,
Assistant Secretary of Commerce for Export Enforcement.

[FR Doc. 2011-16992 Filed 7-6-11; 8:45 am]

BILLING CODE 3510-DT-P